DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Jones and NOAA Awards Nominations.

OMB Control Number: None.

Form Number(s): NA.

Type of Request: Regular submission.

Number of Respondents: 25.

Average Hours per Response: 1 hour.

Burden Hours: 25.

Needs and Uses: The 1990 reauthorization of the Coastal Zone Management Act (CZMA) authorized NOAA to “implement a program to promote excellence in coastal zone management by identifying and acknowledging outstanding accomplishments in the field.” As authorized in Section 314 of the CZMA, the Walter B. Jones Awards recognize three categories of excellence: Coastal Steward of the Year, Excellence in Local Government, and Excellence in Coastal and Marine Graduate Study. The CZMA authorizes NOAA to conduct public ceremonies to acknowledge such awards, which are based on responses to a biannual call for nominations.

In conjunction with the Walter B. Jones Awards, NOAA instituted several additional categories of awards, to recognize: Volunteer of the Year; Non-governmental Organization of the Year; Excellence in Promoting Cultural & Ethnic Diversity; Excellence in Business Leadership; and the Susan Snow Cotter Award for Excellence in Ocean and Coastal Resource (NOAA re-named this award in honor of Susan Snow Cotter in 2007).

Affected Public: State, local and Tribal governments; not-for-profit institutions.

Frequency: Biannually.

Respondent's Obligation: Voluntary.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: September 22, 2009.
Gwellnar Banks,
Management Analyst, Office of the Chief Information Officer.

[FR Doc. E9-23290 Filed 9-25-09; 8:45 am]

BILLING CODE 3510-22-P